FEDERAL COMMUNICATIONS COMMISSION

Public Information Collection Requirement Submitted to OMB for Review and Approval

August 1, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 7, 2007. If you anticipate that you will be submitting comments, but find it difficult to do so within the period of time allowed by this notice, you should advise the contacts listed below as soon as possible.

ADDRESSES: Direct all PRA comments to Jasmeet K. Seehra, Office of Management and Budget (OMB), Room 10236 NEOB, 725 17th Street, NW., Washington, DC 20503, (202) 395-3123, or via fax at (202) 395-5167 or via Internet at Jasmeet_K._Seehra@omb.eop.gov and to Cathy Williams, Federal Communications Commission, Room 1-C823, 445 12th Street, SW., Washington, DC.

If you would like to obtain or view a copy of this information collection, you may do so by visiting the FCC PRA Web page at: http://www.fcc.gov/omd/pra.

FOR FURTHER INFORMATION CONTACT: For additional information or copies of the information collection(s), contact Cathy Williams at (202) 418-2918 or via the Internet at PRA@fcc.gov.

SUPPLEMENTARY INFORMATION: OMB Control Number: 3060-0874.

Title: Consumer Complaint Forms, FCC Form 475-B and FCC Form 2000.

Form No.: FCC Forms 475-B; 2000-A, 2000-B, 2000-C, 2000-D, 2000-E, and 2000-F.

Type of Review: Revision of a currently approved collection.

Respondents: Individuals or households; Business and other for-profit entities; Not-for-profit Institutions.

Number of Respondents: 1,330,108 (FCC Forms 475-B: 1,271,332; 2000A through 2000F: 58,776).

Estimated Time per Response: 15 minutes per form for the Form 475-B; 30 minutes per form for the Form 2000.

Frequency of Response: On occasion reporting requirement.

Obligation to Respond: Voluntary.

Total Annual Burden: 347,221 (FCC Forms 475-B: 317,833 hours; 2000A through 2000F: 29,388 hours).

Total Annual Costs: $0.

Nature and Extent of Confidentiality: Confidentiality is an issue to the extent that individuals and households provide personally identifiable information, which is covered under the FCC's system of records notice (SORN), FCC/CGB-1, “Informal Complaints and Inquiries.”

Privacy Act Impact Assessment: Yes. The Privacy Impact Assessment was completed on June 28, 2007. It may be reviewed at: http://www.fcc.gov/omd/privacyact/Privacy_Impact_Assessment.html.

Needs and Uses: Section 208(a) of the Communications Act of 1934, as amended, authorizes complaints by any “person complaining of anything done or omitted to be done by any common carrier” subject to the provisions of the Act. Section 208(a) further states that, if a carrier does not satisfy a complaint or there appears to be any reasonable ground for investigating the complaint, the Commission shall “investigate the matters complained of in such manner and by such means as it shall deem proper.” Although the Act does not discuss how the Commission should treat complaints against non-common carriers for violations of the Act or Commission rules, the Commission investigates such complaints in a manner similar to how it treats those against common carriers.

Currently, the Commission has specific complaint forms for the unauthorized conversion of a person's telephone service (“slamming”) (FCC Form 501), the broadcast of indecent, obscene, or profane material (FCC Form 475B), and the unlawful telemarketing, “junk faxing,” or e-mail messaging to a wireless device (FCC Form 1088). The current FCC Form 475 is used for all other types of complaints, although, as currently drafted, it is predominately oriented toward common carrier complaints.

The proposed FCC Form 2000 replaces current FCC Form 475, providing greater clarity and ease of use by separating the various complaint subject areas into separate subparts tailored to each subject. The Internet-based version of FCC Form 2000 first asks for the complainant's contact information, including name, address, telephone number, and e-mail address; then presents a “gateway” question to determine the general topic of the complaint: (1) Deceptive or unlawful advertising or marketing; (2) billing, privacy, or service quality; (3) disability access;

(4) emergency or public safety; (5) general media issues; or (6) other complaints. As described below, the form provides examples of the types of issues covered by each topic. After the complainant answers this question, the form asks additional questions geared to the specific type of violation reported. The form poses certain mandatory threshold questions that must be answered for the Commission to determine whether a violation has occurred. It also provides space for complainants to provide additional information and details that may be necessary or helpful to the Commission in investigating the complaint.

In printed format, FCC Form 2000 will have six subparts, one for each area described above.

Each subpart of the printable version of FCC Form 2000 consolidates the complainant's personal information with detailed questions about the specific violations alleged by the complainant.

The following descriptions of FCC Form 2000A, 2000B, 2000C, 2000D, 2000E and 2000F, therefore, refer to the printable subparts of FCC Form 2000.

FCC Form 2000A, Deceptive or Unlawful Advertising or Marketing Complaint. This form would be used if the complainant alleges deceptive or otherwise unlawful advertising or marketing by communications companies, including common carriers, broadcasters, and cable and satellite service providers. The consumer protection issues covered by this form include deceptive advertising by telephone companies, wireless service providers, or Internet access service providers, as well as subliminal advertising on radio or television, illegal advertisements on non-commercial educational television or radio stations, and excessive or otherwise unlawful commercials during children's television programming.

FCC Form 2000B, Billing, Privacy, or Service Quality Complaint. This form would be used if the complainant alleges billing, privacy, or service quality issues with a telephone company or wireless provider. The consumer protection issues covered by this form include complaints about the quality or availability of service by a telephone company, wireless provider, or Internet access service provider, including complaints that a telephone company or wireless provider is not allowing the complainant to keep his or her telephone number after changing service providers. Complainants also would use this form for complaints about the unauthorized disclosure of calling records by telephone companies or wireless providers.

FCC Form 2000C, Disability Access Complaint. This form would be used for complaints about disability access, e.g., issues with Telecommunications Relay Service (TRS), closed captioning, or the accessibility of emergency information. This form would also be used for complaints about the accessibility of telecommunications equipment and services such as the compatibility of hearing aids with both wireless and wireline telephone equipment.

FCC Form 2000D, Emergency or Public Safety Complaint. This form would be used for complaints regarding problems with communications companies about emergency or public safety issues. This form would be used for complaints about the quality or availability of Enhanced 911 service, interference with emergency/public safety communications or devices, radio tower problems (lighting, fencing, painting), Emergency Alert System (EAS) problems, and cable signal leakage.

FCC Form 2000E, Media (General) Complaint. This form would be used for complaints alleging misconduct by radio or television stations, cable systems, or satellite operators. This form would cover a broad spectrum of complaints, including those alleging unfair contests, hoaxes, payola or sponsorship identification problems, news distortion, unauthorized or pirate broadcasters, and the broadcast of telephone conversations without prior notice.

FCC Form 2000F, Other Communications Complaint Not Covered by Form 2000A through Form 2000E.

This form would be used for complaints that do not come within the scope of any of the other subparts of FCC Form 2000. Some of the areas covered by this form would be interference to non-emergency services or communications, such as garage door openers or home appliances, as well as amateur or Citizens Band (CB) radio issues.

FCC Form 2000 will allow the Commission to collect detailed information from complainants concerning possible violations of the Act and the Commission's rules, which will enable the Commission to investigate such allegations more efficiently and to initiate enforcement actions against violators as appropriate. By collecting complaint information in a single, comprehensive template, the form will provide a standardized way for complainants to provide their information, thus reducing the need for further documentation or questions from FCC investigators to determine whether violations have occurred. This approach will ensure that complainants present their information in a way that maximizes the FCC's ability to take enforcement action against violators and protects complainants from violations that are unjust, unreasonable, and potentially hazardous to life and property. Additionally, FCC Form 2000's format reduces the need for complainants to compose narratives with all the information necessary for the Commission to begin an investigation, principally by including fields for and examples of the information most commonly needed for investigations of the most common types of violations. The form will allow the Commission to gather and review this information more efficiently. The information collected by FCC Form 2000 may ultimately become the foundation for enforcement actions and/or rulemaking proceedings, as appropriate.

FCC Form 475-B, Obscene, Profane, and Indecent Complaint Form. This form is used by consumers to lay out precisely their complaint(s) and issue(s) concerning the practices of the communications entities, which consumers believe may have aired obscene, profane, and/or indecent programming. FCC Form 475-B will remain unchanged.

Federal Communications Commission.
Marlene H. Dortch,
Secretary.

[FR Doc. E7-15452 Filed 8-7-07; 8:45 am]

BILLING CODE 6712-01-P